DEPARTMENT OF THE TREASURY

Office of Foreign Assets Control

Additional Designation of Entities and Individuals Pursuant to Executive Order 12978

AGENCY: Office of Foreign Assets Control, Treasury.

ACTION: Notice.

SUMMARY: The Treasury Department's Office of Foreign Assets Control (“OFAC”) is publishing the names of nine individuals and 13 entities whose property and interests in property are blocked pursuant to Executive Order 12978 of October 21, 1995, “Blocking Assets and Prohibiting Transactions with Significant Narcotics Traffickers” (the “Order”).

DATES: The designation by the Director of OFAC of the nine individuals and 13 entities identified in this notice pursuant to Executive Order 12978 is effective on July 15, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on demand service, tel.: (202) 622-0077.

Background

On October 21, 1995, the President, invoking the authority, inter alia, of the International Emergency Economic Powers Act (50 U.S.C. 1701-1706), issued the Order. In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and the Secretary of State, to play a significant role in international narcotics trafficking centered in Colombia, or materially to assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On July 15, 2010, the Director of OFAC, in consultation with the Departments of Justice, State, and Homeland Security, designated nine individuals and 13 entities whose property and interests in property are blocked pursuant to the Order.

The list of designees is as follows:

Individuals

1. ARISTIZABAL MEJIA, Diego, c/o BOSQUES DE AGUA SOCIEDAD POR ACCIONES SIMPLIFICADA, Medellin, Colombia; c/o BROKER CMS EL AGRARIO S.A., Envigado, Antioquia, Colombia; c/o DIEGO ARISTIZABAL M. Y ASOCIADOS LTDA., Medellin, Colombia; c/o FUMIGACIONES Y REPRESENTACIONES AGROPECUARIAS S.A., Medellin, Colombia; c/o TREMAINE CORP., Panama; Carrera 50 No. 29 Sur-016, Envigado, Antioquia, Colombia; DOB 22 Jan 1943; Cedula No. 8240938 (Colombia); (INDIVIDUAL) [SDNT].

2. CASTRO JARAMILLO, Monica Maria, c/o COMERCIALIZADORA DE GANADO Y RENTAS DE CAPITAL S.A., Medellin, Colombia; c/o FUMIGACIONES Y REPRESENTACIONES AGROPECUARIAS S.A., Medellin, Colombia; c/o LUIS B MEJIA ASOCIADOS Y CIA LTDA., Medellin, Colombia; DOB 27 Oct 1971; Cedula No. 43574795 (Colombia); Passport AK476053 (Colombia); (INDIVIDUAL) [SDNT].

3. LUQUE AGUILERA, Maria Monserrat, Calle 6A No. 22-46, Medellin, Colombia; Calle Meridiana No. 35, Malaga, Spain; DOB 22 Feb 1963; POB Medellin, Colombia; Cedula No. 43051926 (Colombia); D.N.I. 44598335R (Spain); (INDIVIDUAL) [SDNT].

4. MEJIA MOLINA, Luis Bernardo, c/o BOSQUES DE AGUA SOCIEDAD POR ACCIONES SIMPLIFICADA, Medellin, Colombia; c/o BROKER CMS EL AGRARIO S.A., Envigado, Antioquia, Colombia; c/o FUMIGACIONES Y REPRESENTACIONES AGROPECUARIAS S.A., Medellin, Colombia; c/o LUIS B MEJIA ASOCIADOS Y CIA LTDA., Medellin, Colombia; c/o ROSEVILLE INVESTMENTS S.A., Panama; Calle 20 Sur No. 26C-140, Medellin, Colombia; DOB 18 Mar 1945; POB Envigado, Antioquia, Colombia; Cedula No. 4325882 (Colombia); (INDIVIDUAL) [SDNT].

5. MEOUCHI SAADE, Pablo Agustin, c/o GRUPO IRUNA, S.A. DE C.V., Mexico, Distrito Federal, Mexico; c/o GRUPO JEZINNE, S.A. DE C.V., Mexico, Distrito Federal, Mexico; c/o INDUSTRIALIZADORA PURECORN, S.A. DE C.V., Mexico, Distrito Federal, Mexico; c/o MASA FACIL, S.A. DE C.V., Mexico, Distrito Federal, Mexico; DOB 17 Oct 1962; POB Distrito Federal, Mexico; C.U.R.P. MESP621017HDFCDB05 (Mexico); Passport 330020001 (Mexico); (INDIVIDUAL) [SDNT].

6. PELAEZ LOPEZ, John Jairo, c/o RENTA LIQUIDA S.A.S., Medellin, Antioquia, Colombia; Calle 32B Sur No. 47-51 Apto. 801, Envigado, Antioquia, Colombia; Calle 46 No. 86-24, Medellin, Colombia; DOB 05 Sep 1957; Cedula No. 3356399 (Colombia); (INDIVIDUAL) [SDNT].

7. RAMIREZ DUQUE, Carlos Manuel, c/o AGROESPINAL S.A., Medellin, Colombia; c/o AGROGANADERA LOS SANTOS S.A., Medellin, Colombia; c/o ASES DE COMPETENCIA Y CIA. S.A., Medellin, Colombia; c/o GRUPO FALCON S.A., Medellin, Colombia; c/o HIERROS DE JERUSALEM S.A., Medellin, Colombia; c/o TAXI AEREO ANTIOQUENO S.A., Medellin, Colombia; Calle 50 No. 65-42 Of. 205, Medellin, Colombia; DOB 14 Dec 1947; Cedula No. 8281944 (Colombia); (INDIVIDUAL) [SDNT].

8. RODRIGUEZ FERNANDEZ, Andre, c/o AERONAUTICA CONDOR S.A. DE C.V., Toluca, Estado de Mexico, Mexico; c/o CONSULTORIA EN CAMBIOS FALCON S.A. DE C.V., Huixquilucan, Estado de Mexico, Mexico; Camino de Acceso a Pradera 41 Fracc. Cuspide Make 1003, Lomas Verdes 53120, Mexico; Cerrada J Camarillo No. 18, Colonia Hogar y Redencion, Delegacion Alvaro Obregon, Mexico, Distrito Federal, Mexico; DOB 26 Aug 1971; POB Distrito Federal, Mexico; C.U.R.P. ROFA710826HDFDRN05 (Mexico); (INDIVIDUAL) [SDNT].

9. TOBON CALLE, Martha Elena, c/o FUMIGACIONES Y REPRESENTACIONES AGROPECUARIAS S.A., Medellin, Colombia; c/o LUIS B MEJIA ASOCIADOS Y CIA LTDA., Medellin, Colombia; Calle 20 Sur No. 26C-140, Medellin, Colombia; DOB 16 Mar 1962; Cedula No. 43035196 (Colombia); (INDIVIDUAL) [SDNT].

Entities

1. BOSQUES DE AGUA SOCIEDAD POR ACCIONES SIMPLIFICADA, Carrera 43A No. 23-14, Medellin, Colombia; NIT # 900320463-4 (Colombia); (ENTITY) [SDNT].

2. BROKER CMS EL AGRARIO S.A., Carrera 43A No. 23 Sur-15, Envigado, Antioquia, Colombia; NIT # 900185889-9 (Colombia); (ENTITY) [SDNT].

3. COMERCIALIZADORA DE GANADO Y RENTAS DE CAPITAL S.A. (a.k.a. GANARECA S.A.); Calle 7 Sur No. 42-70 of. 1105, Medellin, Colombia; NIT # 811035501-1 (Colombia); (ENTITY) [SDNT].

4. DIEGO ARISTIZABAL M. Y ASOCIADOS LTDA., Calle 1A Sur No. 43A-49 of. 201, Medellin, Colombia; NIT # 890931281-7 (Colombia); (ENTITY) [SDNT].

5. FUMIGACIONES Y REPRESENTACIONES AGROPECUARIAS S.A. (a.k.a. FUMAGRO S.A.); Calle 11 Sur No. 29D-27 Suite 702, Medellin, Colombia; NIT # 890402231-1 (Colombia); (ENTITY) [SDNT].

6. GRUPO IRUNA, S.A. DE C.V., Avenida Insurgentes Sur No. 1605, Local 41, Colonia San Jose Insurgentes, Delegacion Benito Juarez, Mexico, Distrito Federal C.P. 03900, Mexico; R.F.C. GIR-070508-MK0 (Mexico); (ENTITY) [SDNT].

7. GRUPO JEZINNE, S.A. DE C.V., Mexico, Distrito Federal, Mexico; Folio Mercantil No. 365647 (Mexico) issued: 19 Jun 2007; (ENTITY) [SDNT].

8. INDUSTRIALIZADORA PURECORN, S.A. DE C.V., Avenida Insurgentes Sur 933 202, Colonia Napoles, Delegacion Benito Juarez, Mexico, Distrito Federal C.P. 03810, Mexico; Calle Obrero Mundial No. 154, Colonia Del Valle, Delegacion Benito Juarez, Mexico, Distrito Federal C.P. 03100, Mexico; Camino Viejo a Coatepec s/n, Ixtapaluca, Estado de Mexico C.P. 56580, Mexico; R.F.C. IPU-030318-C6A (Mexico); (ENTITY) [SDNT].

9. LUIS B MEJIA ASOCIADOS Y CIA LTDA., Calle 4 Sur No. 43A-195 oficina 117, Medellin, Colombia; NIT # 811040695-1 (Colombia); (ENTITY) [SDNT].

10. MASA FACIL, S.A. DE C.V., Mexico, Distrito Federal, Mexico; Folio Mercantil No. 343997 (Mexico) issued: 14 Dec 2005; (ENTITY) [SDNT].

11. RENTA LIQUIDA S.A.S., Calle 16 Sur No. 48-17 Apto. 503, Medellin, Colombia; Calle 32B Sur No. 47-51, Envigado, Antioquia, Colombia; Calle 46 No. 86-24, Medellin, Colombia; NIT # 900316915-6 (Colombia); (ENTITY) [SDNT].

12. ROSEVILLE INVESTMENTS S.A., Panama; RUC # 753808-1-480790-33 (Panama); (ENTITY) [SDNT].

13. TREMAINE CORP., Panama; RUC # 808568-1-497226-92 (Panama); (ENTITY) [SDNT].

Dated: July 15, 2010.
Adam J. Szubin,
Director, Office of Foreign Assets Control.

[FR Doc. 2010-17720 Filed 7-20-10; 8:45 am]

BILLING CODE 4810-AL-P